DEPARTMENT OF VETERANS AFFAIRS

Research Advisory Committee on Gulf War Illnesses; Notice of Meeting

The Department of Veterans Affairs (VA) gives notice under Public Law 92-463 (Federal Advisory Committee Act) that the Research Advisory Committee on Gulf War Veterans' Illnesses will meet on February 3-4, 2003, at the Department of Veterans Affairs, 810 Vermont Avenue, NW, Washington, DC. The meeting on February 3 will convene in Room 830 at 8 a.m. and adjourn at 5:30 p.m. The meeting on February 4 will convene in Room 230 at 8 a.m. and adjourn at 4 p.m. Both meetings will be open to the public.

The purpose of the Committee is to provide advice and make recommendations to the Secretary of Veterans Affairs on proposed research studies, research plans and research strategies relating to the health consequences of military service in the Southwest Asia theater of operations during the Persian Gulf War.

On February 3, the Committee will review current activities and receive an update on new research. The Committee will hearing presentations on and discuss antibiotic therapy and exercise behavior therapy, Phase III of the National Gulf War Veterans Survey and treatment research concepts. Throughout the day, there will be presentations by visiting experts including, Chief of VA Research and Development, Directors of the Washington, DC and New Jersey War-Related Illness and Injury Study Centers and Dr. Hermona Soreq, Hebrew University of Jerusalem. On February 4, the Committee will hear presentations on and discuss vaccine and mechanism research concepts. The Committee will also discuss and develop recommendations and next steps. Time will be available for public comment on both days.

Members of the public may submit written statements for the Committee's review to Ms. Laura O'Shea, Committee Manager, Department of Veterans Affairs (008A1), 810 Vermont Avenue, NW., Washington, DC 20420. Any member of the public wishing further information should contact Ms. Laura O'Shea at (202) 273-5031.

Dated: January 9, 2003.
By Direction of the Secretary.
Nora E. Egan,
Committee Management Officer.

[FR Doc. 03-878 Filed 1-14-03; 8:45 am]

BILLING CODE 8320-01-M